ENVIRONMENTAL PROTECTION AGENCY

[EPA-R05-OW-2009-0932, FRL-9100-6]

Agency Information Collection Activities; Proposed Collection; Comment Request; Great Lakes Accountability System; EPA ICR No. 2379.01, OMB Control No. 2005-NEW

AGENCY: Environmental Protection Agency (EPA).

ACTION: Notice.

SUMMARY: In compliance with the Paperwork Reduction Act (PRA), this document announces that EPA is planning to submit a request for a new Information Collection Request (ICR) to the Office of Management and Budget (OMB). Before submitting the ICR to OMB for review and approval, EPA is soliciting comments on specific aspects of the proposed information collection described below.

DATES: Comments must be submitted on or before March 8, 2010.

ADDRESSES: Submit your comments, identified by Docket ID No. EPA-R05-OW-2009-0932, by one of the following methods:

• http://www.regulations.gov: Follow the on-line instructions for submitting comments.

• Mail: Great Lakes Accountability System, Attn: Rita Cestaric, EPA, Great Lakes National Program Office, 77 W. Jackson St., Chicago, Illinois 60604.

• Hand Delivery: Great Lakes Accountability System, Attn. Rita Cestaric, EPA, Great Lakes National Program Office, 77 W. Jackson St., Chicago, Illinois 60604. Such deliveries are only accepted during the Docket's normal hours of operation (8:30 a.m. to 4:30 p.m. Monday through Friday excluding legal holidays), and special arrangements should be made for delivery of boxed information.

Instructions: Direct your comments to Docket ID No. EPA-R05-OW-2009-0932. EPA's policy is that all comments received will be included in the public docket without change and may be available online at http://www.regulations.gov, including any personal information provided, unless the comment includes information claimed to be Confidential Business Information (CBI) or other information whose disclosure is restricted by statute. Do not submit information that you consider to be CBI or otherwise protected through http://www.regulations.gov. The http://www.regulations.gov Web site is an “anonymous access” system, which means EPA will not know your identity or contact information. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Rita Cestaric, USEPA, Great Lakes National Program Office, 77 W. Jackson Boulevard, Chicago, Illinois 60604; telephone number: (312) 886-6815; fax number: (312) 697-2014; e-mail address: cestaric.rita@epa.gov or Marcia Damato, USEPA, Great Lakes National Program Office, 77 West Jackson Boulevard, Chicago, Illinois 60604; telephone number: (312) 886-0266; fax number: (312) 582-5862; e-mail address: damato.marcia@epa.gov.

SUPPLEMENTARY INFORMATION:

How Can I Access the Docket and/or Submit Comments?

EPA has established a public docket for this ICR under Docket ID No. EPA EPA-R05-OW-2009-0932, which is available for online viewing at http://www.regulations.gov, or in person viewing at USEPA, Great Lakes National Program Office, 77 West Jackson Boulevard, Chicago, Illinois 60604. Materials are available for viewing from 8:30 a.m. to 4:30 p.m., Monday through Friday, excluding legal holidays; telephone number (312) 886-6815. An electronic version of the public docket is available at http://www.regulations.gov. This site can be used to obtain a copy of the draft collection of information, submit or view public comments, access the index listing of the contents of the docket, and to access those documents in the public docket that are available electronically. Once in the system, select “search,” then key in the docket ID number identified in this document EPA-R05-OW-2009-0932.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are state, local and tribal governments and non-government organizations receiving Great Lakes Restoration Initiative funding.

Title: Great Lakes Accountability System.

ICR numbers: EPA ICR No. 2379.01, OMB Control No. 2005-NEW.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: In 2010, EPA, in concert with its federal partners, will begin implementation of a new Great Lakes Restoration Initiative (GLRI) which was included in the Department of the Interior, Environment, and Related Agencies Appropriations Act, 2010 (Pub. L. 111-88). The GLRI will invest funds in programs and projects strategically chosen to target the most significant environmental problems in the Great Lakes ecosystem.

The legislation calls for increased accountability for the GLRI and directs EPA to implement a process to track, measure and report on progress. As part of this process, federal and non-federal entities receiving GLRI funds will be required to submit detailed information on GLRI projects as part of their funding agreement. Recipients will be required to provide project-level information on the nature of the activity, responsible organization, organizational point of contact, resource levels, geographic location, major milestones and progress toward GLRI goals. The information is necessary to provide an accurate depiction of activities, progress and results. Information would be entered and updated on at least a quarterly basis.

A Web-based Great Lakes Accountability System (GLAS) is being developed as the primary mechanism for collecting information on GLRI activities. The Web site will contain a user-friendly data entry interface for recipients to enter and submit project information directly into the GLAS. The data entry interface will consist of a series of screens containing pull-down menus and text boxes, where users can enter project specific information. The GLAS will provide the necessary information for reports to the President and will be accessible to the public via Internet.

Burden Statement: The annual public reporting and recordkeeping burden for this collection of information is estimated to average 101.9 hours per response for state, local and tribal governments and 20.5 hours per response for non-governmental organizations. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 458 (358 state, local and tribal governments, 100 non-government organizations).

Frequency of response: Quarterly.

Estimated average number of response cycles per year for each respondent: 1.

Estimated total annual burden hours: 38,530.2 hours (101.9 hours per annual response cycle (i.e., four quarters) for state, local governments and tribal governments, 20.5 hours per annual response cycle for non-government organizations).

Estimated total annual costs: $1,675,228.04. This includes an estimated burden cost of $1,675,228.04 for labor and an estimated cost of $0.00 for capital investment or maintenance and operational costs.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: December 30, 2009.
Richard T. Westlund,
Acting Director, Collection Strategies Division.

[FR Doc. E9-31408 Filed 1-4-10; 8:45 am]

BILLING CODE 6560-50-P